DEPARTMENT OF HEALTH AND HUMAN SERVICES

Centers for Disease Control and Prevention

Board of Scientific Counselors, Coordinating Center for Infectious Diseases (CCID)

In accordance with section 10(a)(2) of the Federal Advisory Committee Act (Pub. L. 92-463), the Centers for Disease Control and Prevention (CDC) announces the following meeting of the aforementioned committee:

Times and Dates:

9 a.m.-5 p.m., May 14, 2009.

8:30 a.m.-3:30 p.m., May 15, 2009.

Place: CDC Global Communication Center, Building 19, 1600 Clifton Road, NE., Atlanta, Georgia 30333.

May 14, 2009—Building 19; Working Groups will meet as follows:

Rooms 245/246—The National Center for HIV/AIDS, Viral Hepatitis, STD, and TB Prevention (NCHHSTP).

Rooms 247/248—National Center for Zoonotic, Vector-Borne, and Enteric Diseases (NCZVED).

Rooms 254/255—National Center for Immunization and Respiratory Diseases (NCIRD).

Rooms 256/257—National Center for Preparedness, Detection, and Control of Infectious Diseases (NCPDCID).

May 15, 2009—Full Board meets in Auditorium B3.

Status: Open to the public, limited only by the space available.

Purpose: The Board of Scientific Counselors, CCID, provides advice and guidance to the Director, CDC, and Director, CCID, in the following areas: program goals and objectives; strategies; program organization and resources for infectious disease prevention and control; and program priorities.

Matters to be Discussed: Agenda items will include:

1. Breakout Group Discussions: Environmental Microbiology—morning session (NCPDCID and NCZVED).

2. Strategic Plan (NCPDCIC)—afternoon session.

3. Strategic Blueprint (NCZVED)—afternoon session.

4. Strategic Plan (NCHHSTP).

5. Prevention of Neonatal Group B Streptococcal Disease Influenza at the Human-Animal Interface; Review of Recommendations from April 2009 Meeting—(NCIRD).

6. Strategies for Infectious Diseases; Positioning for the Future (Full Board).

7. Budget and CCID/OD Updates.

Other agenda items include announcements/introductions; follow-up on actions recommended by the Board and consideration of future directions, goals, and recommendations.

Agenda items are subject to change as priorities dictate.

Written comments are welcome and should be received by the contact person listed below prior to the opening of the meeting.

Contact Person for More Information: Harriette Lynch, Office of the Director, CCID, CDC, Mailstop E-77, 1600 Clifton Road, N.E., Atlanta, Georgia 30333, e-mail: hlynch@cdc.gov; telephone (404) 498-2726.

The Director, Management Analysis and Services office has been delegated the authority to sign Federal Register notices pertaining to announcements of meetings and other committee management activities, for both the Centers for Disease Control and Prevention and the Agency for Toxic Substances and Disease Registry.

Dated: April 6, 2009.
Elaine L. Baker,
Director, Management Analysis and Services Office, Centers for Disease Control and Prevention.

[FR Doc. E9-8342 Filed 4-10-09; 8:45 am]

BILLING CODE 4163-18-P